DEPARTMENT OF DEFENSE

Office of the Secretary

[Docket ID DoD-2022-OS-0087]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 26, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: DoD Sexual Assault Prevention and Response Office Victim-Related Inquiries; DD Form 2985, DD Form 2985-1; OMB Control Number 0704-0565.

Type of Request: Extension.

Number of Respondents: 150.

Responses per Respondent: 1.

Annual Responses: 150.

Average Burden per Response: 30 minutes.

Annual Burden Hours: 75 hours.

Needs and Uses: This information collection requirement is necessary to facilitate a timely response and appropriate resolution to inquiries from DoD sexual assault victims/survivors, support personnel and others. Collection of this information is used to support victims and survivors of sexual assault in their recovery and to maintain a database of inquiries that documents the nature and status of inquiries in order to provide adequate follow-up services and inform sexual assault prevention and response program and policy improvements while promoting victim recovery. Military sexual assault victims, parents, other family members, and friends requesting assistance can contact the Sexual Assault Prevention and Response Office by completing the DD Form 2985, “Department of Defense Sexual Assault Prevention and Response Office Request for Assistance.” After receiving permission from the requesting individual, the request for assistance is referred to the appropriate agency for action to facilitate a resolution.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 20, 2022.
Aaron T. Siegel,
Alternate OSD Federal Register Liaison Officer, Department of Defense.

[FR Doc. 2022-20718 Filed 9-23-22; 8:45 am]

BILLING CODE 5001-06-P